DEPARTMENT OF TRANSPORTATION

Federal Aviation Administration

14 CFR Part 71

[Docket No. FAA-2019-1030; Airspace Docket No. 19-ASW-17]

RIN 2120-AA66

Amendment of Class D and E Airspace; Dallas-Fort Worth, Fort Worth, and Stephenville, TX

AGENCY: Federal Aviation Administration (FAA), DOT.

ACTION: Final rule.

SUMMARY: This action amends the Class D airspace at Fort Worth Spinks Airport, Fort Worth, TX, and the Class E airspace extending upward from 700 feet above the surface at Bourland Field, Fort Worth, TX, and Mesquite Metro Airport, Mesquite, TX, and Stephenville Clark Regional Airport, Stephenville, TX. These actions are the result of airspace reviews caused by the decommissioning of the Glen Rose VHF omnidirectional range (VOR) navigation aid as part of the VOR Minimum Operational Network (MON) Program. The geographic coordinates and names of several airports are also being updated to coincide with the FAA's aeronautical database.

DATES: Effective 0901 UTC, September 10, 2020. The Director of the Federal Register approves this incorporation by reference action under Title 1 Code of Federal Regulations part 51, subject to the annual revision of FAA Order 7400.11 and publication of conforming amendments.

ADDRESSES: FAA Order 7400.11D, Airspace Designations and Reporting Points, and subsequent amendments can be viewed online at https://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11D at NARA, email fedreg.legal@nara.gov or go to https://www.archives.gov/federal-register/cfr/ibr-locations.html.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends the Class D airspace at Fort Worth Spinks Airport, Fort Worth, TX, and the Class E airspace extending upward from 700 feet above the surface at Bourland Field, Fort Worth, TX, and Mesquite Metro Airport, Mesquite, TX, which are contained within the Dallas-Fort Worth, TX, airspace legal description, and Stephenville Clark Regional Airport, Stephenville, TX, to support instrument flight rule operations at these airports.

History

The FAA published a notice of proposed rulemaking in the Federal Register (85 FR 5343; January 30, 2020) for Docket No. FAA-2019-1030 to amend Class D airspace at Fort Worth Spinks Airport, Fort Worth, TX, and the Class E airspace extending upward from 700 feet above the surface at Bourland Field, Fort Worth, TX, and Mesquite Metro Airport, Mesquite, TX, which are contained within the Dallas-Fort Worth, TX, airspace legal description, and Stephenville Clark Regional Airport, Stephenville, TX. Interested parties were invited to participate in this rulemaking effort by submitting written comments on the proposal to the FAA. No comments were received.

Class D and E airspace designations are published in paragraph 5000 and 6005, respectively, of FAA Order 7400.11D, dated August 8, 2019, and effective September 15, 2019, which is incorporated by reference in 14 CFR 71.1. The Class D and E airspace designations listed in this document will be published subsequently in the Order.

Availability and Summary of Documents for Incorporation by Reference

This document amends FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

The Rule

This amendment to Title 14 Code of Federal Regulations (14 CFR) part 71:

Amends the Class D airspace at Fort Worth Spinks Airport, Fort Worth, TX, by updating the header of the airspace legal description from “Fort Worth Spinks Airport, TX” to “Fort Worth, TX” to coincide with the FAA's aeronautical database and to comply with FAA Order 7400.2M; updates the geographic coordinates of the airport; and replaces the outdated term “Airport/Facility Directory” with “Chart Supplement;”

Amends the Class E airspace extending upward from 700 feet above the surface for Dallas-Fort Worth, TX, by updating the header of the airspace legal description from “Dallas/Fort Worth, TX” to “Dallas-Fort Worth, TX” to coincide with the FAA's aeronautical database; updating the name of Dallas-Fort Worth International Airport (previously Dallas/Fort Worth International Airport), Dallas-Fort Worth, TX, to coincide with the FAA's aeronautical database; removing the cities associated with McKinney National Airport, McKinney, TX; Ralph M. Hall/Rockwall Municipal Airport, Rockwall, TX; and Mesquite Metro Airport, Mesquite, TX, contained in the Dallas-Fort Worth, TX, airspace legal description to comply with FAA Order 7400.2M; removing the Mesquite NDB and the associated extension from the airspace legal description as the associated instrument procedure has been cancelled and the extension is no longer needed; updating the name of the Mesquite Metro: RWY 18-LOC (previously Mesquite Metro ILS Localizer) to coincide with the FAA's aeronautical database; removing the extension south of the airport associated with the Mesquite Metro ILS Localizer; adding an extension 4 miles west and 7.9 miles east of the 001° bearing from the Mesquite Metro: RWY 18-LOC extending from the 6.5-mile radius of the Mesquite Metro Airport to 10 miles north of the Mesquite Metro: RWY 18-LOC; updating the name of Lancaster Regional Airport (previously Lancaster Airport), Lancaster, TX, to coincide with the FAA's aeronautical database and removing the city associated with Lancaster Regional Airport contained in the Dallas-Fort Worth, TX, airspace legal description to comply with FAA Order 7400.2M; removing the city associate with Fort Worth Spinks Airport, Fort Worth, TX, contained in the Dallas-Fort Worth, TX, airspace legal description to comply with FAA Order 7400.2M and updating the geographic coordinates of the airport to coincide with the FAA's aeronautical database; removing the city associated with Cleburne Regional Airport, Cleburne, TX, contained in the Dallas-Fort Worth, TX, airspace legal description to comply with FAA Order 7400.2M; updating the name of Bourland Field (previously Bourland Field Airport), Fort Worth, TX, to coincide with the FAA's aeronautical database and removing the city associated with the airport contained in the Dallas-Fort Worth, TX, airspace legal description to comply with FAA Order 7400.2M; removing the cities associated with Granbury Regional Airport, Granbury, TX, and Parker County Airport, Weatherford, TX, contained in the Dallas-Fort Worth, TX, airspace legal description to comply with FAA Order 7400.2M; removing the city associated with Bridgeport Municipal Airport, Bridgeport, TX, contained in the Dallas-Fort Worth, TX, airspace legal description to comply with FAA Order 7400.2M and updating the geographic coordinates of the airport to coincide with the FAA's aeronautical database; and removing the city associated with the Decatur Municipal Airport, Decatur, TX, contained in the Dallas-Fort Worth, TX, airspace legal description to comply with FAA Order 7400.2M;

And amends the Class E airspace extending upward from 700 feet above the surface at Stephenville Clark Regional Airport (previously Clark Field Municipal Airport), Stephenville, TX, by updating the name and geographic coordinates of the airport to coincide with the FAA's aeronautical database; removing the city associated with the airport in the airspace legal description to comply with FAA Order 7400.2M; and adding an extension 4 miles each side of the 329° bearing from the airport extending from the 6.4-mile radius to 10.5 miles northwest of the airport.

This action is the result of an airspace review caused by the decommissioning of the Glen Rose VHF omnidirectional range (VOR) navigation aid, which provided navigation information for the instrument procedures at these airports, as part of the VOR Minimum Operational Network (MON) Program, and to bring the airspace legal description for Mesquite Metro Airport into compliance with FAA Order 7400.2M.

FAA Order 7400.11, Airspace Designations and Reporting Points, is published yearly and effective on September 15.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019, and effective September 15, 2019, is amended as follows:

Paragraph 5000 Class D Airspace

* * * * *

ASW TX D Fort Worth, TX [Amended]

Fort Worth Spinks Airport, TX

(lat. 32°33′55″ N, long. 97°18′30″ W)

That airspace extending upward from the surface up to but not including 3,000 feet MSL within a 4.1-mile radius of Fort Worth Spinks Airport, and within 1 mile each side of the 173° bearing from the airport extending from the 4.1-mile radius to 4.8 miles south of the airport. This Class D airspace area is effective during the specific dates and times established in advance by a Notice to Airmen. The effective dates and times will thereafter be continuously published in the Chart Supplement.

Paragraph 6005 Class E Airspace Areas Extending Upward From 700 Feet or More Above the Surface of the Earth

* * * * *

ASW TX E5 Dallas-Fort Worth, TX [Amended]

Dallas-Fort Worth International Airport, TX

(lat. 32°53′50″ N, long. 97°02′16″ W)

McKinney National Airport, TX

(lat. 33°10′37″ N, long. 96°35′20″ W)

Ralph M. Hall/Rockwall Municipal Airport, TX

(lat. 32°55′50″ N, long. 96°26′08″ W)

Mesquite Metro Airport, TX

(lat. 32°44′49″ N, long. 96°31′50″ W)

Mesquite Metro: RWY 18-LOC

(lat. 32°44′03″ N, long. 96°31′50″ W)

Lancaster Regional Airport, TX

(lat. 32°34′39″ N, long. 96°43′03″ W)

Point of Origin

(lat. 32°51′57″ N, long. 97°01′41″ W)

Fort Worth Spinks Airport, TX

(lat. 32°33′55″ N, long. 97°18′30″ W)

Cleburne Regional Airport, TX

(lat. 32°21′14″ N, long. 97°26′02″ W)

Bourland Field, TX

(lat. 32°34′55″ N, long. 97°35′27″ W)

Granbury Regional Airport, TX

(lat. 32°26′40″ N, long. 97°49′01″ W)

Parker County Airport, TX

(lat. 32°44′47″ N, long. 97°40′57″ W)

Bridgeport Municipal Airport, TX

(lat. 33°10′26″ N, long. 97°49′42″ W)

Decatur Municipal Airport, TX

(lat. 33°15′15″ N, long. 97°34′50″ W)

That airspace extending upward from 700 feet above the surface within a 30-mile radius of Dallas-Fort Worth International Airport, and within a 6.6-mile radius of McKinney National Airport, and within 1.8 miles each side of the 002° bearing from McKinney National Airport extending from the 6.6-mile radius to 9.2 miles north of the airport, and within a 6.3-mile radius of Ralph M. Hall/Rockwall Municipal Airport, and within 1.6 miles each side of the 010° bearing from Ralph M. Hall/Rockwall Municipal Airport extending from the 6.3-mile radius to 10.8 miles north of the airport, and within a 6.5-mile radius of Mesquite Metro Airport, and within 4 miles west and 7.9 miles east of the 001° bearing from the Mesquite Metro: RWY 18-LOC extending from the 6.5-mile radius of the Mesquite Metro Airport to 10 miles north of the Mesquite Metro: RWY 18-LOC, and within a 6.6-mile radius of Lancaster Regional Airport, and within 1.9 miles each side of the 140° bearing from Lancaster Regional Airport extending from the 6.6-mile radius to 9.2 miles southeast of the airport, and within 8 miles northeast and 4 miles southwest of the 144° bearing from the Point of Origin extending from the 30-mile radius of Dallas-Fort Worth International Airport to 35 miles southeast of the Point of Origin, and within a 6.5-mile radius of Fort Worth Spinks Airport, and within 8 miles east and 4 miles west of the 178° bearing from Fort Worth Spinks Airport extending from the 6.5-mile radius to 21 miles south of the airport, and within a 6.9-mile radius of Cleburne Regional Airport, and within 3.6 miles each side of the 292° bearing from the Cleburne Regional Airport extending from the 6.9-mile radius to 12.2 miles northwest of airport, and within a 6.5-mile radius of Bourland Field, and within a 6.3-mile radius of Granbury Regional Airport, and within a 6.3-mile radius of Parker County Airport, and within 8 miles east and 4 miles west of the 177° bearing from Parker County Airport extending from the 6.3-mile radius to 21.4 miles south of the airport, and within a 6.3-mile radius of Bridgeport Municipal Airport, and within 1.6 miles each side of the 040° bearing from Bridgeport Municipal Airport extending from the 6.3-mile radius to 10.6 miles northeast of the airport, and within 4 miles each side of the 001° bearing from Bridgeport Municipal Airport extending from the 6.3-mile radius to 10.7 miles north of the airport, and within a 6.3-mile radius of Decatur Municipal Airport, and within 1.5 miles each side of the 263° bearing from Decatur Municipal Airport extending from the 6.3-mile radius to 9.2 miles west of the airport.

* * * * *

ASW TX E5 Stephenville, TX [Amended]

Stephenville Clark Regional Airport, TX

(lat. 32°12′55″ N, long. 98°10′40″ W)

That airspace extending upward from 700 feet above the surface within a 6.4-mile radius of Stephenville Clark Regional Airport, and within 4 miles each side of the 329° bearing from the airport extending from the 6.4-mile radius to 10.5 miles northwest of the airport.

Issued in Fort Worth, Texas, on May 26, 2020.
Steven T. Phillips,
Acting Manager, Operations Support Group, ATO Central Service Center.

[FR Doc. 2020-11612 Filed 6-5-20; 8:45 am]

BILLING CODE 4910-13-P